DEPARTMENT OF HEALTH AND HUMAN SERVICES

Centers for Disease Control and Prevention

[30-Day-12-12DO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

National Healthy Worksite Program—New—National Center for Chronic Disease Prevention and Health Promotion (NCCDPHP), Centers for Disease Control and Prevention (CDC).

Background and Brief Description

The Centers for Disease Control and Prevention (CDC) is establishing the National Healthy Worksite Program (NHWP), a comprehensive workplace health promotion program to address physical activity, nutrition, and tobacco use in the workplace. Participating worksites will create high quality workplace health programs by implementing programs, policies, and environmental supports that assist employees in adopting healthy behaviors. The NHWP will provide assistance to an estimated 100 small, mid-size, and large employers to create and expand sustainable workplace programs aimed at achieving three primary goals: (1) To reduce the risk of chronic disease among employees and their families through science-based workplace health interventions and promising practices; (2) to promote sustainable and replicable workplace health activities such as establishing a worksite committee, having senior leadership support, and forming community partnerships and health coalitions, and (3) to promote peer-to-peer business mentoring that encourages employers to be active leaders and role models in their communities around health.

Over a three-year period, the National Healthy Worksite Program will engage and recruit groups of up to 15 employers in seven selected communities, lead them through the process of building a comprehensive workplace health program, and collect evaluation information. The NHWP will also provide workplace health program training to worksites that are not participating in the NHWP. CDC may increase the number of NHWP sites that receive assistance, if funding becomes available.

CDC plans to collect information needed to select the initial group of participating NHWP worksites; to describe implementation and costs of workplace health promotion programs at these sites over the initial two-year period of support; to examine the effects of workplace health programs on employee access and opportunity to engage in activities that support a healthy lifestyle; and to quantify reductions in individual health risks and improvements in productivity. The NHWP will also assess the value of community-based training for community participants (employers not selected as participating employers). In addition, for up to one year after the two-year implementation period, CDC will collect information needed to assess program sustainability.

Participation in the NHWP is voluntary for both worksites and employees at those sites. During the development phase of the proposed information collection, CDC received comments from a variety of interested parties, and a number of instruments were revised to improve clarity. There are no costs to participants other than their time, with the exception of an in-kind contribution for large employers.

CDC will use the information collected to support the implementation efforts of employers participating in the NHWP; inform future program efforts at CDC and other Federal agencies; and develop tools, resources, and guidance to support broader workplace health efforts.

OMB approval is requested for three years. The total estimated annualized burden hours are 15,530.

Estimated Annualized Burden Hours
Type of respondent | Form name | Number of respondents | Number of responses per respondent | Average burden per response (in hours)
Interested Employer | Employer Phone Interview Guide | 69 | 1 | 20/60
Participating Employer | Organizational Assessment | 66 | 2 | 30/60
| Employee Eligibility File | 33 | 4 | 15/60
| Employer Information Form | 33 | 1 | 30/60
| Health Screening Site Interview Form | 33 | 2 | 30/60
| Discussion Guide for Steering Committee Members | 100 | 1 | 30/60
| Discussion Guide for Wellness Committee Members | 166 | 1 | 30/60
| Employer Follow-Up Survey | 33 | 1 | 15/60
Community Participant | Community Participant Engagement Feedback Survey | 35 | 1 | 10/60
| Worksite Health Training Survey Parts I-III | 100 | 1 | 10/60
| Worksite Health Training Survey Part IV | 100 | 1 | 10/60
Employee | Health Screening Consent/Contact Form | 5,000 | 1 | 10/60
| All Employee Survey | 5,000 | 2 | 5/60
| Health Assessment | 5,000 | 2 | 15/60
| Success Story Consent Form | 67 | 1 | 10/60
| Satisfaction Survey | 2,000 | 4 | 15/60
Employee: Wellness Challenge Log/Program Participant | Lower Your Weight by Eight Challenge Log | 2,000 | 1 | 1
| Step into Health Challenge Log | 2,000 | 1 | 30/60
| Mix it Up Challenge Log | 2,000 | 1 | 30/60
| Quench Your Thirst Challenge Log | 2,000 | 1 | 30/60
| Feel Fit with Fiber Challenge Log | 2,000 | 1 | 30/60
| Maintain Don't Gain Challenge Log | 2,000 | 1 | 1
| Nutrition and Physical Activity Tracking Log/Lifestyle Tracker | 2,000 | 1 | 30/60

Kimberly Lane,
Deputy Director, Office of Scientific Integrity, Office of the Associate Director for Science, Office of the Director, Centers for Disease Control and Prevention.

[FR Doc. 2012-14207 Filed 6-11-12; 8:45 am]

BILLING CODE 4163-18-P